DEPARTMENT OF AGRICULTURE

Forest Service

Judith Restoration EIS—Lewis and Clark National Forest

AGENCY: Forest Service, USDA.

ACTION: Notice of intent to prepare an environmental impact statement.

SUMMARY: The Forest Service will prepare an environmental impact statement on a proposal to treat dry forest types, whitebark pine, limber pine and aspen, the need to reduce fuels near the urban interface, the need to improve water quality combined with the timing of a State facilitated sub-basin review, and opportunities for westslope cutthroat trout habitat enhancement. The analysis area encompasses approximately 214,000 acres of the Judith Ranger District, Lewis and Clark National Forest, Judith Basin County, Montana.

DATES: It is anticipated that the draft EIS will be released for review and comment in the winter 2002/2003.

ADDRESSES: Send written comments to Betty Holder, Judith District Ranger, Lewis and Clark National Forest, Box 484, Stanford, MT 59479. Electronic mail may be sent to comment/rl_lewisclark@fs.fed.us

FOR FURTHER INFORMATION CONTACT: Jennifer Johnsten, EIS Co-team Leader, (406) 791-7700 or Betty Holder, EIS Co-team Leader (406) 566-2292.

SUPPLEMENTARY INFORMATION: The Forest Service proposes vegetation treatment and road and trail closures/modifications on the Judith Ranger District within the Little Belt Mountains, which includes the Middle Fork and South Fork of the Judith River. A preliminary assessment determined this area to have a high percentage of dry forest types, such as Douglas-fir, which are currently overstocked, largely due to fire suppression. This has also led to high fuel loading, which is problematic near private inholdings and urban interfaces. In addition, water quality in the South Fork and tributaries has been affected by past management actions. Several populations of genetically pure westslope cutthroat trout are found in the South Fork. Improved habitat for these species is key to their survival. The enclosed map shows where, within the analysis area, there are opportunities to take action to address these objectives and meet the goals outlined below. This EIS will review six alternatives.

Decisions To Be Made

The Forest Supervisor will decide whether and where vegetative treatment and road/trail activities would take place in the project area. He will decide the number of acres and miles of road/trail, if any, on which activity would take place and the types of treatment methods to be used. He will decide when any management activities would take place, what mitigation measures would be implemented to address concerns, and whether the action requires amendment(s) to the Lewis and Clark Forest Plan.

Responsible Official

Rick Prausa, Forest Supervisor, is the Responsible Official for making the decision to implement any of the alternatives evaluated. He will document his decision and rationale in a Record of Decision.

Preliminary Issues

Issues associated with this analysis that have been submitted from initial scoping efforts include impacts of proposed activities on wildlife and fish species and their habitat, soil resources, Wilderness Study Area, Inventoried Roadless Areas, water quality and water yield, and forest health.

Public Involvement, Rationale, and Public Meetings

Initial scoping for this project began in April 2001. A letter was sent to 120 individuals requesting comment on the proposed action. A 45-day review period for comments on the Draft EIS will be provided. Comments received will be considered and included in documentation of the Final EIS. The public is encouraged to take part in the process and to visit with Forest Service officials at any time during the analysis and prior to the decision. The Forest Service has sought and will continue to seek information, comments and assistance from Federal, State and local agencies and other individuals or organizations who may be interested in, or affected by, the proposed action.

Electronic Access and Filing Addresses

Comments may be sent by electronic mail (e-mail) to mailroom_r1_lewis_and_clark@fs.fed.us. Please reference the Judith Restoration EIS on the subject line. Also, include your name and mailing address with your comments so documents pertaining to this project may be mailed to you.

Estimated Dates for Filing

The Draft EIS is expected to be filed with the Environmental Protection Agency (EPA) and to be available for public review by winter, 2002/2003. At that time EPA will publish a Notice of Availability of the draft EIS in the Federal Register. The comment period on the draft EIS will be 45 days from the date the EPA publishes the Notice of Availability in the Federal Register. It is very important that those interested in the management of this area participate at that time.

The final EIS is scheduled to be completed by July, 2003. In the final EIS, the Forest Service is required to respond to comments received during the comment period that pertain to the environmental consequences of the action, as well as those pertaining to applicable laws, regulations, and policies. These will be considered in making a decision regarding the proposal.

The Reviewers Obligation To Comment

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: June 24, 2002.
Lynn Johnson,
Acting Lewis and Clark Forest Supervisor.

[FR Doc. 02-16420 Filed 6-28-02; 8:45 am]

BILLING CODE 3410-11-M